DEPARTMENT OF TRANSPORTATION

Federal Highway Administration

Notice of Final Federal Agency Actions on Proposed Highway in Michigan

AGENCY: Federal Highway Administration (FHWA), DOT.

ACTION: Notice of Decision by FHWA and Notice of Limitation of Claims for Judicial Review of Actions by FHWA and Other Federal Agencies.

SUMMARY: This notice announces the availability of a Record of Decision by FHWA pursuant to the requirements of the National Environmental Protection Policy Act of 1969 (NEPA), 42 U.S.C. 4321, as amended and the Council on Environmental Quality Regulations (40 CFR Parts 1500-1508). In addition, this Notice announces actions taken by FHWA and other Federal agencies that are final with in the meaning of 23 U.S.C. 139(1)(1). These actions relate to a proposed expansion of the Blue Water Bridge Port of Entry in Port Huron, Michigan. These actions grant approvals for the project.

DATES: By this notice, the FHWA is advising the public of final agency actions subject to 23 U.S.C. 771 and 23 U.S.C. 139(1)(1). A claim seeking judicial review of the Federal Agency actions on the highway project will be barred unless the claim is filed on or before November 18, 2009 (180 days from the publication date of this notice in the Federal Register). If the Federal law that authorizes that judicial review of a claim provides a time period of less than 180 days for filing such claim, then that shorter time period still applies.

FOR FURTHER INFORMATION CONTACT: Mr. David Williams, Environmental Program Manager, Federal Highway Administration Michigan Division, 315 West Allegan Street, Room 201, Lansing, MI 48933; phone: (517) 702-1820, Fax: (517) 377-1804; and e-mail: David.Williams@FHWA.DOT.gov. Mr. Ryan Rizzo, Major Project Manager, Federal Highway Administration Michigan Division, 315 West Allegan Street, Room 201, Lansing, MI 48933; phone: (517) 702-1833, Fax: (517) 377-1844; E-mail: Ryan.Rizzo@fhwa.dot.gov.

SUPPLEMENTARY INFORMATION: Notice is hereby given that the FHWA and other Federal agencies have taken final agency actions by issuing approvals for the following plaza expansion project in the State of Michigan: Blue Water Bridge Study, St. Clair County, Michigan. The Selected Alternative is the City West Alternative that will: increase the size of the U.S. Port of Entry plaza bringing most of the elevated plaza down to street level; meet all plaza operational and traffic circulation needs through the year 2030; relocate Pine Grove Avenue (M-25) to the west around the new plaza; replace and expand the Black River Bridge, the Water Street Interchange, and the Lapeer Connector interchange; resurface and expand 2.5 miles of the existing I-94/I-69 freeway; and relocate the Michigan Welcome Center to vacant land north of I-94/I-69 approximately one mile west of its current location. The Selected Alternative is located within the City of Port Huron and the Charter Township of Port Huron, St. Clair County, Michigan. The plaza portion of the project lies primarily between Hancock Street on the north, 10th Avenue to the east, and relocated Pine Grove Avenue to the south and west.

The actions by the Federal agencies, and the laws under which such actions were taken, are described in the Final Environmental Impact Statement for the project approved on March 20, 2009, in the FHWA Record of Decision (ROD) issued on May 12, 2009, and in other project records. The FEIS, ROD, and other documents in the FHWA project file are available by contacting the FHWA or the Michigan Department of Transportation at the addresses provided above. The FHWA FEIS and ROD can be viewed and downloaded from the project Web site at: http://www.michigan.gov/mdot/0,1607,7-151-9621_11058_36266—,00.html or viewed at public libraries in the project area.

This notice applies to all Federal agency decisions on the listed projects as of the issuance date of this notice and all laws under which such actions were taken, including but not limited to:

1. General: National Environmental Policy Act [42 U.S.C. 4321-4351]; Federal-Aid Act [23 U.S.C. 109].

2. Air: Clean Air Act, as amended [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)].

6. Social and Economics: Civil Rights Act of 1964 [42 U.S.C 2000(d)-2000(d)(1)]; American Indians Religious Freedom Act [42 U.S.C. 1996]; Farmland Protection Act [7 U.S.C. 4201-4209]; the Uniform Relocation Assistance and Real Property Acquisition Policies of 1970, as amended [42 U.S.C. 61].

7. Wetlands and Water Resources: Clean Water Act [33 U.S.C. 1251-1377 (Section 404, Section 401, Section 319); Coastal Zone Management Act [14 U.S.C. 1451-1465]; Land and Water Conservation Fund [16 U.S.C. 4601-4604]; Safe Drinking Water Act [42 U.S.C. 300(f)-300(j)(6)]; Rivers and Harbors Act of 1899 [42 U.S.C. 401-406]; TEA-21 Wetland Mitigation [23 U.S.C. 103(b)(6)(m), 133(b)(11)]; Flood Disaster Protection Act [42 U.S.C. 4001-4128].

8. Hazardous Materials: Comprehensive Environmental Response, Compensation and Liability Act [42 U.S.C. 9501-9675]; Superfund Amendments and Reauthorization Act of 1986 [PL 99-499]; Resource Conservation and Recovery Act [42 U.S.C. 6901-6992(k)].

9. Executive Orders: E.O. 11990, Protection of Wetlands; E.O. 11988, Floodplains Management; E.O. 12898, Federal Actions to Address Environmental Justice in Minority and Low Income Populations; E.O. 11593, Protection and Enhancement of Cultural Resources; E.O. 13007, Indian Sacred Sites; E.O. 13112, Invasive Species; E.O. 13274, Environmental Stewardship and Transportation Infrastructure Project Reviews.

(Catalog of Federal Domestic Assistance Program Number 20.205, Highway Planning and Construction. The regulations implementing Executive Order 12372 regarding intergovernmental consultation on Federal programs and activities apply to this program.)

Authority: 23 U.S.C. 139(1)(1).

Issued on: May 18, 2009.
James J. Steele,
Michigan Division Administrator.

[FR Doc. E9-12022 Filed 5-21-09; 8:45 am]

BILLING CODE 4910-22-P